NATIONAL ARCHIVES AND RECORDS ADMINISTRATION

[NARA-2015-022]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 20, 2015. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (DAA-AU-2015-0002, 1 item, 1 temporary item). Master files of an electronic information system that contains weapons acquisition data to include design information and life cycle support plans.

2. Department of Defense, Office of the Secretary of Defense (DAA-0330-2014-0017, 3 items, 3 temporary items). Master files of an electronic information system that contains records relating to employee assistance programs including call center recordings, referrals, and non-medical counseling files.

3. Department of Defense, Office of the Secretary of Defense (DAA-0330-2014-0019, 2 items, 2 temporary items). Records of the Pentagon Force Protection Agency to include master files of an electronic information system that contains records on individuals involved in criminal or non-criminal incidents including personal identifiers, information on security violations, and inquiries into incidents.

4. Department of Defense, Office of the Secretary of Defense (DAA-0330-2014-0021, 1 item, 1 temporary item). Master files of an electronic information system that contains records on individuals registered in the job priority placement program including personal identifiers, contact information, and information concerning occupational experience, job preference, and duty locations.

5. Department of Homeland Security, U.S. Secret Service (DAA-0087-2014-0001, 6 items, 4 temporary items). Video surveillance recordings and protective tracking operations data for facilities protected by the agency. Proposed for permanent retention are recordings and data associated with assassination attempts.

6. Department of Justice, U.S. Marshals Service (DAA-0527-2013-0007, 4 items, 3 temporary items). Office of General Counsel records including civil litigation files and supporting documentation for legal opinions. Proposed for permanent retention are legal opinion files.

7. Department of the Navy, Judge Advocate General (DAA-0428-2014-0002, 1 item, 1 temporary item). Master files of an electronic information system used to track and manage case files.

8. Department of the Navy, U.S. Marine Corps (DAA-0127-2013-0005, 1 item, 1 temporary item). Master files of an electronic information system that contains records used for readiness reporting and planning purposes.

9. Department of the Navy, U.S. Marine Corps (DAA-0127-2013-0027, 1 item, 1 temporary item). Master files of an electronic information system used to support force management and planning.

10. Department of the Navy, U.S. Marine Corps (DAA-0127-2014-0014, 1 item, 1 temporary item). Master files of an electronic information system used for surveillance of bases, including digital video recordings and personnel information.

11. Department of the Navy, U.S. Marine Corps (DAA-0127-2014-0016, 1 item, 1 temporary item). Master files of an electronic information system used to identify, facilitate, and track the recovery process for wounded and injured medical patients.

12. Department of the Navy, U.S. Marine Corps (DAA-0127-2014-0023, 2 items, 1 temporary item). Master files of an electronic information system used to manage and track entrants to the Marine Corps Marathon. Proposed for permanent retention are statistical records on race winners.

13. National Archives and Records Administration, Office of the Federal Register (DAA-0064-2014-0002, 7 items, 7 temporary items). Paper and electronic documents submitted for publication in the Federal Register.

14. Peace Corps, Overseas Posts (N1-490-12-4, 11 items, 11 temporary items). Records of the Medical Office including routine administrative files, medical records for volunteers, and medical reports regarding general health interest items for volunteers.

15. Railroad Retirement Board, Agency-wide (DAA-0184-2013-0001, 10 items, 10 temporary items). Records relating to the administration of field services, including records of opinions and protests, statistical reports, audit reports, motor vehicle reports, and space reports.

Dated: January 13, 2015.
Paul M. Wester, Jr.,
Chief Records Officer for the U.S. Government.

[FR Doc. 2015-00875 Filed 1-20-15; 8:45 am]

BILLING CODE 7515-01-P